DEPARTMENT OF ENERGY

Federal Energy Regulatory Commission

Combined Notice of Filings #1

Take notice that the Commission received the following electric corporate filings:

Docket Numbers: EC17-158-000.

Applicants: CPV Towantic, LLC, Towantic Energy Holdings, LLC, Aircraft Services Corporation.

Description: Correction to August 15, 2017 Application for Authorization under Section 203 of the Federal Power Act and Request for Waivers, Confidential Treatment, Expedited Action and Shortened Comment Period of CPV Towantic, LLC, et al.

Filed Date: 8/21/17.

Accession Number: 20170821-5157.

Comments Due: 5 p.m. ET 9/5/17.

Docket Numbers: EC17-163-000.

Applicants: MDU Resources Group, Inc.

Description: Application of MDU Resources Group, Inc. for Authorization Under FPA Section 203(a)(1)(B) and Request for Expedited Consideration and Confidential Treatment.

Filed Date: 8/22/17.

Accession Number: 20170822-5159.

Comments Due: 5 p.m. ET 9/12/17.

Take notice that the Commission received the following exempt wholesale generator filings:

Docket Numbers: EG17-144-000.

Applicants: St. Joseph Energy Center, LLC.

Description: St. Joseph Energy Center, LLC Submits Self-Certification of EWG Status.

Filed Date: 8/23/17.

Accession Number: 20170823-5015.

Comments Due: 5 p.m. ET 9/13/17.

Take notice that the Commission received the following electric rate filings:

Docket Numbers: ER17-2342-000.

Applicants: Bladen Solar, LLC.

Description: Baseline eTariff Filing: Baseline new to be effective 10/10/2017.

Filed Date: 8/22/17.

Accession Number: 20170822-5135.

Comments Due: 5 p.m. ET 9/12/17.

Docket Numbers: ER17-2343-000.

Applicants: Bullock Solar, LLC.

Description: Baseline eTariff Filing: Baseline new to be effective 10/4/2017.

Filed Date: 8/22/17.

Accession Number: 20170822-5137.

Comments Due: 5 p.m. ET 9/12/17.

Docket Numbers: ER17-2344-000.

Applicants: Northern States Power Company, a Minnesota corporation.

Description: § 205(d) Rate Filing: 2017-8-22 GRE TSA Termination Agrmt-RS 309 to be effective 10/22/2017.

Filed Date: 8/22/17.

Accession Number: 20170822-5138.

Comments Due: 5 p.m. ET 9/12/17.

Docket Numbers: ER17-2345-000.

Applicants: EC&R Energy Marketing, LLC.

Description: Baseline eTariff Filing: Application for Market Based Rate to be effective 10/22/2017.

Filed Date: 8/23/17.

Accession Number: 20170823-5018.

Comments Due: 5 p.m. ET 9/13/17.

Docket Numbers: ER17-2346-000.

Applicants: Midcontinent Independent System Operator, Inc.

Description: § 205(d) Rate Filing: 2017-08-23_Termination of Project J235 E&P Agreements (SA 2549 & SA 2517) to be effective 8/24/2017.

Filed Date: 8/23/17.

Accession Number: 20170823-5021.

Comments Due: 5 p.m. ET 9/13/17.

Docket Numbers: ER17-2347-000.

Applicants: Louisville Gas and Electric Company.

Description: § 205(d) Rate Filing: Att I and Att R Updates to be effective 10/23/2017.

Filed Date: 8/23/17.

Accession Number: 20170823-5029.

Comments Due: 5 p.m. ET 9/13/17.

Docket Numbers: ER17-2348-000.

Applicants: PJM Interconnection, L.L.C.

Description: Tariff Cancellation: Notice of Cancellation of WMPA SA No. 4458, Queue No. AA1-110 to be effective 10/16/2017.

Filed Date: 8/23/17.

Accession Number: 20170823-5037.

Comments Due: 5 p.m. ET 9/13/17.

Docket Numbers: ER17-2349-000.

Applicants: Tucson Electric Power Company.

Description: § 205(d) Rate Filing: WECC Field Test Waiver for Rate Schedule No. 321 to be effective 8/8/2017.

Filed Date: 8/23/17.

Accession Number: 20170823-5052.

Comments Due: 5 p.m. ET 9/13/17.

Docket Numbers: ER17-2350-000.

Applicants: Public Service Company of Oklahoma.

Description: § 205(d) Rate Filing: PSO-OGE Cemetery Road Delivery Point Agreement to be effective 8/15/2017.

Filed Date: 8/23/17.

Accession Number: 20170823-5073.

Comments Due: 5 p.m. ET 9/13/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 23, 2017.
Nathaniel J. Davis, Sr.,
Deputy Secretary.

[FR Doc. 2017-18245 Filed 8-28-17; 8:45 am]

BILLING CODE 6717-01-P